DEPARTMENT OF TRANSPORTATION

Federal Highway Administration

Notice of Final Federal Agency Actions on Proposed Highways in Texas

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to various proposed highway projects in the State of Texas. Those actions grant licenses, permits, and approvals for the projects.

DATES: By this notice, the FHWA is advising the public of final agency actions subject to 23 U.S.C. 139(l)(1). A claim seeking judicial review of the Federal agency actions on any of the listed highway projects will be barred unless the claim is filed on or before May 27, 2009. If the Federal law that authorizes judicial review of a claim provides a time period of less than 180 days for filing such claim, then that shorter time period still applies.

FOR FURTHER INFORMATION CONTACT: Salvador Deocampo, District Engineer, Texas Division, Federal Highway Administration, 826 Federal Building Room 826 300E. 8th Street Austin, Texas 78701, 8 a.m. to 5 p.m. Monday through Friday, 512-536-5950, salvador.deocampo@fhwa.dot.gov. Ms. Dianna Noble, P.E., Director Environmental Affairs Division, Texas Department of Transportation, 118 E. Riverside, Austin, Texas, 78704; 512-416-2734; e-mail: dnoble@dot.state.tx.us. Texas Department of Transportation normal business hours are 8 a.m. to 5 p.m. (central time) Monday through Friday.

SUPPLEMENTARY INFORMATION: Notice is hereby given that the FHWA and other Federal agencies have taken final agency actions by issuing licenses, permits, and approvals for the highway projects in the State of Texas that are listed below. The actions by the Federal agencies on the projects, and the laws under which such actions were taken, are described in the documented Categorical Exclusion (CE) and Environmental Assessments (EAs), issued in connection with the projects, and in other documents project records. The CE, EAs, Findings of No Significant Impacts (FONSIs) and other project records for the listed projects are available by contacting the FHWA or TxDOT at the addresses provided above and can be viewed and downloaded from the following Web site: http://www.635project.com.

This notice applies to all Federal agency decisions on the listed projects as of the issuance date of this notice and all laws under which such actions were taken, including but not limited to:

I. General: National Environmental Policy Act (NEPA) (42 U.S.C. 4321-4351); Federal-Aid Highway Act (FAHA) (23 U.S.C. 109).

II. Air: Clean Air Act (CAA), [42 U.S.C. 7401-7671(q)].

III. Land: Section 4(f) of the Department of Transportation Act of 1966 (49 U.S.C. 303).

IV. Wildlife: Endangered Species Act (ESA) (16 U.S.C. 1531-1544 and Section 1536), Migratory Bird Treaty Act (MBTA) (16 U.S.C. 703-712).

V. Historic and Cultural Resources: Section 106 of the National Historic Preservation Act of 1966, as amended [16 U.S.C. 470(f) et seq.]; Archeological Resources Protection Act of 1977 (ARPA) [16 U.S.C. 470(aa)-11]; Archeological and Historic Preservation Act (AHPA) [16 U.S.C. 469-469(c)].

VI. Social and Economic: Civil Rights Act of 1964 (Civil Rights) [42 U.S.C. 2000(d)-2000(d)(1)].

VII. Wetlands and Water Resources: Clean Water Act, 33 U.S.C. 1251-1377 (Section 404, Section 401, Section 402, Section 319); Rivers and Harbors Act of 1899 (RHA), 33 U.S.C. 401-406.

VIII. Executive Orders: E.O. 11990 Protection of Wetlands; E.O. 11988 Floodplain Management; E.O. 11514 Protection and Enhancement of Environmental Quality.

The projects subject to this notice are:

1. Project Location: Interstate Highway 635 (I-635) from Luna Road to U.S. Highway 75 (US 75) in Dallas County. Project Reference Number: TxDOT CSJ: 2374-01-032, 2374-01-068, and 2374-07-046.

Project Type: The project will: (1) Reconstruct and widen the existing I-635 main lanes; (2) replace the existing I-635 high occupancy vehicle (HOV) lane in both directions with two managed (tolled) lanes in each direction from east of Luna Road to between Josey Lane and Webb Chapel Road; (3) add three subsurface managed HOV lanes in both directions from between Josey Lane and Webb Chapel Road to west of U.S. 75; and (4) construct two- and three-lane frontage roads to link the existing discontinuous frontage roads in each direction. Project Length: Approximately 8.89 miles. General Purpose: The project will improve system linkage and mobility in the area in response to current and future traffic demand needs and development along I-635. Final agency actions taken under: NEPA, FAHA, CAA, Section 106, ESA, MBTA, ARPA, AHPA, Civil Rights Act, Section 404, Section 401, E.O. 11990, and E.O. 11514. NEPA Document: EA approved on May 1, 2003, FONSI issued on April 29, 2004, and was reaffirmed on June 20, 2008.

2. Project Location: I-635 at U.S. 75 in Dallas County. Project Reference Number: TxDOT CSJ: 5800-00-915. Project Type: The project will provide interim eastbound and westbound entrance and exit ramps, and toll gantries on the I-635 interim HOV/managed (tolled) lanes. Project Length: Approximately two miles. General Purpose: The project will improve system linkage and mobility in the area in response to current and future traffic demand needs and development along I-635. Final agency actions taken under: NEPA, FAHA, CAA, ESA, MBTA, ARPA, AHPA, Civil Rights Act, Section 401, E.O. 11990, and E.O. 11514. NEPA Document: CE approved on June 19, 2008.

3. Project Location: Loop 12/I-35E from Spur 408 to I-635 in Dallas County. Project Reference Number: TxDOT CSJ: 0196-03-137; 0581-02-077, 121, 124, 128; 0094-03-060. Project Type: The project will: (1) Reconstruct and widen the existing six main lanes to eight main lanes; (2) reconstruct and widen the existing two-lane discontinuous frontage roads to four to six lanes; (3) add new frontage roads to link the discontinuous frontage roads; (4) construct a two-to three-lane reversible managed (tolled) HOV facility; and (5) construct two three-lane elevated direct connections between the Loop 12/I-35E interchange and the I-635 interchange. Project Length: Approximately 12.9 miles. General Purpose: The project will improve system linkage and mobility in the area in response to current and future traffic demand needs and development along Loop 12 and I-35E. Final agency actions taken under: NEPA, FAHA, CAA, Section 4(f), Section 106, ESA, MBTA, ARPA, AHPA, Civil Rights Act, Section 404, Section 401, E.O. 11990, and E.O. 11514. NEPA Document: EA approved on July 3, 2002, FONSI issued on December 11, 2002, and was reaffirmed on June 24, 2008.

(Catalog of Federal Domestic Assistance Program Number 20.205, Highway Planning and Construction. The regulations implementing Executive Order 12372 regarding intergovernmental consultation on Federal programs and activities apply to this program.)

Authority: 23 U.S.C. 139(l)(1).

Issued on: November 20, 2008.
Salvador Deocampo,
District Engineer.

[FR Doc. E8-28344 Filed 11-26-08; 8:45 am]

BILLING CODE 4910-22-P